DEPARTMENT OF HEALTH AND HUMAN SERVICES

National Institutes of Health

National Institute of Environmental Health Sciences; Amended Notice of Meeting

Notice is hereby given of a change in the meeting of the National Institute of Environmental Health Sciences Special Emphasis Panel, January 16, 2001, 1 p.m. to January 16, 2001, 3 p.m., NIEHS, 79 T. Alexander Drive, Building 4401, Conference Room 3446, Research Triangle Park, NC 27709 which was published in the Federal Register on November 28, 2000, FR 229:70928.

The telephone conference call meeting will be held on March 19, 2001, from 1 p.m. to 3 p.m. at the same location, instead of January 16, 2000, as previously advertised. The meeting is closed to the public.

Dated: January 4, 2001.
LaVerne Y. Stringfield,
Director, Office of Federal Advisory Committee Policy.

[FR Doc. 01-1627 Filed 1-19-01; 8:45 am]

BILLING CODE 4140-01-M